DEPARTMENT OF THE INTERIOR

National Park Service

National Register of Historic Places; Notification of Pending Nominations

Nominations for the following properties being considered for listing in the National Register were received by the National Park Service before July 26, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by August 28, 2003.

Carol D. Shull,
Keeper of the National Register of Historic Places.

ARKANSAS

Mississippi County

Hale Avenue Historic District (Boundary Increase), (Osceola MRA) Roughly 107-111 W. Hale Ave. and 101-109 N. Walnut St., Osceola, 03000863

MARYLAND

Prince George's County

Oxon Cove Park, Government Farm Rd., Oxon Hill, 03000869

MISSOURI

Greene County

Jefferson Street Footbridge, Jefferson Ave., bet. Commercial and Chase Sts., Springfield, 03000865

Marx-Hurlburt Building, (Springfield, Missouri MPS AD II) 311-315 E. Park Central Sq., Springfield, 03000864

St. John's Mercy Hospital Building, 620 W. Scott, Springfield, 03000867

Jackson County

Guadalupe Center, 1015 Avenida de Cesar Chavez, Kansas City, 03000866

NEW JERSEY

Somerset County

Kennedy-Martin-Stelle Farmstead, 450 King George Rd., Bernards Township (Basking Ridge), 03000868

NEW MEXICO

Grant County

Silver City Woman's Club, (New Mexico Federation of Women's Club Buildings in New Mexico MPS) 411 Silver Heights Blvd., Silver City, 03000886

NORTH DAKOTA

Barnes County

Midland Continental Railroad Depot, 401 Railway St., Wimbledon, 03000870

Ramsey County

Central High School, 325 Seventh St., Devils Lake, 03000871

OKLAHOMA

Caddo County

Randlett Park, Washita R. S to Central Blvd. and E to 7th St., Anadarko, 03000878

Carter County

Dornick Hills Country Club, 519 N. Country Club Rd., Ardmore, 03000877

Mayes County

Pensacola Dam, OK 28 over Grand R, 0.5 mi. E of jct. with OK 82, Langley, 03000883

McClain County

US Highway 77 Bridge at Canadian River, US 77 over the Canadian R, Purcell, 03000882

Noble County

Perry Courthouse Square Historic District, Roughly bounded by Birch, Elm, Sixth and Seventh, Perry, 03000881

Oklahoma County

Citizens State Bank, 1112 Northwest 23rd, Oklahoma City, 03000875

Pawnee County

Pawnee Municipal Swimming Pool and Bathhouse, 1.1 mi. N, 0.35 E of Jct. OK 18 and US 64, Pawnee, 03000873

Rogers County

Verdigris Club Lodge, OK 2, Catoosa, 03000876

Seminole County

Strother Memorial Chapel, 1201 Van Dr., Seminole, 03000880

Tulsa County

Boulder-on-the-Park, 1850 S. Boulder Ave., Tulsa, 03000872

Cain's Dancing Academy, 423 N. Main, Tulsa, 03000874

Tulsa Fire Alarm Building, 1010 E 8th St., Tulsa, 03000879

PENNSYLVANIA

Allegheny County

Kerr, Thomas R., Dr., House and Office, 438 Fourth St., Oakmont, 03000885

PUERTO RICO

Las Piedras Municipality

Cueva del Indio (Prehistoric Rock Art of Puerto Rico MPS), Approx. 1.2 km N of PR 198, Las Piedra City, 03000884

SOUTH CAROLINA

Richland County

Old Shandon Historic District, Roughly bounded by Cypress, Lee, Maple, Preston and Woodrow St., Columbia, 03000887

SOUTH DAKOTA

Hughes County

Little Cherry Archeological Site, Address Restricted, Pierre, 03000890

Lyman County

Iron Nation Archeological Site, Address Restricted, Lower Brule, 03000891

Stanley County

Buffalo Calf Archeological Site, Address Restricted, Fort Pierre, 03000888

Cattle Oiler Archeological Site, Address Restricted, Fort Pierre, 03000889

VERMONT

Orange County

Aloha Camp (Organized Summer Camping in Vermont MPS), 2039 Lake Morey Rd., Fairlee, 03000892

Aloha Hive Camp (Organized Summer Camping in Vermont MPS), 846 VT 244, West Fairlee, 03000893

Camp Wyoda (Organized Summer Camping in Vermont MPS), 43 Middlebrook Rd., West Fairlee, 03000895

Lanakila Camp (Organized Summer Camping in Vermont MPS), 2899 Lake Morey Rd., Fairlee, 03000894

WISCONSIN

Eau Claire County

Owen Park Bandshell, First Ave., Owen Park, Eau Claire, 03000896

Winnebago County

Jersild, Rev. Jens N., House, 331 E. Wisconsin Ave., Neenah, 03000898

Lindsley, Perry, House, 1102 E. Forest Ave., Neenah, 03000899

Sensenbrenner, J. Leslie, House, 256 N. Park Ave., Nennah, 03000897

[FR Doc. 03-20533 Filed 8-12-03; 8:45 am]

BILLING CODE 4312-51-P